DEPARTMENT OF THE INTERIOR

National Park Service

[NPS-MWR-SLBE-22512; PS.SMWLA0058.00.1]

Minor Boundary Revision at Sleeping Bear Dunes National Lakeshore

AGENCY: National Park Service, Interior.

ACTION: Notification of boundary revision.

SUMMARY: The boundary of Sleeping Bear Dunes National Lakeshore is modified to include 46 acres of land located in Benzie County, Michigan, immediately adjacent to the boundary of the national lakeshore. The United States will purchase, from willing sellers, two parcels containing 45 acres of land. The third parcel contains one acre and will be acquired by donation.

DATES: The effective date of this boundary revision is June 13, 2017.

ADDRESSES: The map depicting this boundary revision is available for inspection at the following locations: National Park Service, Land Resources Program Center, Midwest Region, 601 Riverfront Drive, Omaha, Nebraska 68102 and National Park Service, Department of the Interior, 1849 C Street NW., Washington, DC 20240.

FOR FURTHER INFORMATION CONTACT: Chief Realty Officer Daniel L. Betts, National Park Service, Land Resources Program Center, Midwest Region, 601 Riverfront Drive, Omaha, Nebraska 68102, telephone (402) 661-1780.

SUPPLEMENTARY INFORMATION: Notice is hereby given that, pursuant to 54 U.S.C. 100506(c), the boundary of Sleeping Bear Dunes National Lakeshore is modified to include 46 acres of adjacent land identified as Tracts 46-162, 67-161, and 67-162. The boundary revision is depicted on Map No. 634/129,621, dated June 2016.

54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will contribute to the protection of local watersheds, add valuable plant and wildlife habitat, and increase recreational opportunities, as well as contribute to the preservation of the scenic character of the area.

Dated: December 2, 2016.
Cameron H. Sholly,
Regional Director, Midwest Region.

Editorial Note: The Office of the Federal Register received this document on June 7, 2017.

[FR Doc. 2017-12150 Filed 6-12-17; 8:45 am]

BILLING CODE 4312-52-P